DEPARTMENT OF AGRICULTURE

Natural Resources Conservation Service

Notice of Meeting of the Agricultural Air Quality Task Force

AGENCY: Natural Resources Conservation Service (NRCS), United States Department of Agriculture (USDA)

ACTION: Notice of meeting.

SUMMARY: The Agricultural Air Quality Task Force (AAQTF) will meet to continue discussions on critical air quality issues in relation to agriculture. Special emphasis will be placed on obtaining a greater understanding about the relationship between agricultural production and air quality. The meeting is open to the public, and a draft agenda is included in this notice.

DATES: The AAQTF meeting will convene on Wednesday, June 8, 2011, from 1 p.m. to 5 p.m. thru Friday, June 10, 2011, from 8 a.m. to 12 p.m. Individuals with written materials, and those who are requesting to make oral presentations, should contact Elvis Graves at (202) 720-1858 or e-mail: elvis.graves@wdc.usda.gov.

ADDRESSES: The meeting will be held at USDA, 1400 Independence Avenue, SW., Room 107-A Jamie L. Whitten Federal Building, Washington, DC 20250.

FOR FURTHER INFORMATION CONTACT: Questions and comments should be directed to Elvis L. Graves, Designated Federal Official, Department of Agriculture, Natural Resources Conservation Service, 1400 Independence Avenue, SW., Room 6165 South Building, Washington, DC 20250; Telephone: (202) 720-1858; Fax: (202) 720-2646; E-mail: elvis.graves@wdc.usda.gov.

SUPPLEMENTARY INFORMATION: Notice of this meeting is given under the Federal Advisory Committee Act, 5 U.S.C. App. 2. Additional information concerning AAQTF, including any revised agendas for the June 8-10, 2011, meeting that occurs after this Federal Register Notice is published, may be found at http://www.airquality.nrcs.usda.gov/AAQTF/index.html.

Draft Agenda—Meeting of the AAQTF—June 8-10, 2011

A. Welcome to Washington, DC

• USDA, NRCS, and local officials

B. Discussion of Federal Advisory Committee Act status

C. USDA Office of Ethics Updates

D. Federal Travel Regulations

E. Air Quality Issues/Concerns from Previous Task Force

• Discussion of goals for Task Force during this charter

• Committee Designations

F. Next Meeting, time/place

• Public Input (Time will be reserved at designated times to receive public comment. Individual presentations will be limited to 5 minutes.)

Procedural

The meeting is open to the public. At the discretion of the Chair, members of the public may give oral presentations during the meeting. Those persons wishing to make oral presentations should notify Elvis Graves at (202) 720-1858; e-mail: elvis.graves@wdc.usda.gov. If a person submitting material would like a copy distributed to each member of the committee in advance of the meeting, they should submit 50 copies to Elvis Graves no later than May 27, 2011.

Information on Services for Individuals With Disabilities

For information on facilities or services for individuals with disabilities or to request special assistance at the meeting, please contact Elvis Graves. USDA prohibits discrimination in its programs and activities on the basis of race, color, national origin, gender, religion, age, sexual orientation, or disability. Additionally, discrimination on the basis of political beliefs and marital or family status is also prohibited by statutes enforced by USDA. (Not all prohibited bases apply to all programs.) Persons with disabilities who require alternate means for communication of program information (Braille, large print, audio tape, etc.) should contact the USDA's Target Center at (202) 720-2000 (voice and TDD).

Signed this 3rd day of May 2011, in Washington, DC.
Dave White,
Chief, Natural Resources Conservation Service.

[FR Doc. 2011-11405 Filed 5-9-11; 8:45 am]

BILLING CODE 3410-16-P